ENVIRONMENTAL PROTECTION AGENCY

[ER-FRL-6638-9]

Environmental Impact Statements; Notice of Availability

Responsible Agency: Office of Federal Activities, General Information (202) 564-7167 or http://www.epa.gov/compliane/nepa/.

Weekly receipt of Environmental Impact Statements

Filed March 24, 2003, through March 28, 2003,

Pursuant to 40 CFR 1506.9.

EIS No. 030131, Draft EIS, AFS, VT, Greendale Project, To Establish the Desired Condition stated in the Green Mountain National Forest Land and Resource Management Plan, Manchester Ranger District, Town of Western, Windor County, VT, Comment Period Ends: May 19, 2003, Contact: Jay Strand (802) 767-4261. This document is available on the Internet at: http://www.fs.fed.us/r9/gm/.

EIS No. 030132, Draft EIS, AFS, CO, Green Ridge Mountain Pine Beetle Analysis Project, Proposal to Reduce the Spread of Mountain Pine Beetle and Associated Tree Mortality, Medicine Bow-Routt National Forest & Thunder Basin National Grassland, Parks Ranger District, Jackson County, CO, Comment Period Ends: May 19, 2003, Contact: Terry Delay (307) 326-2518. This document is available on the Internet at: http://www.fs.fed.us/mrnf.

EIS No. 030133, Final Supplement, NPS, NV, Great Basin National Park General Management and Development Concept Plans, Implementation, White Pine County, NV, Wait Period Ends: May 5, 2003, Contact: Alan Schmierer (510) 817-1441.

EIS No. 030134, Draft EIS, COE, FL, Miami Harbor Navigation Improvement Project, Provide Greater Navigation Safety and Accommodating Larger Vessels, Port of Miami, Miami-Dade County, FL , Comment Period Ends: May 19, 2003, Contact: James McAdams (904) 232-2117.

EIS No. 030135, Draft EIS, AFS, GA, Chattahoochee-Oconee National Forests Revised Land and Resource Management Plan, Implementation, Several Counties, GA, Comment Period Ends: July 3, 2003, Contact: Ron Stephens (770) 297-3000. This document is available on the Internet at: http://www.fs.fed.us/conf/.

EIS No. 030136, Draft EIS, AFS, AL, Alabama National Forests Revised Land and Resource Management Plan, Implementation, Bankhead National Forest, Lawrence, Winston and Franklin Counties, AL, Comment Period Ends: July 3, 2003, Contact: Felicia Humphrey (334) 832-4470.

EIS No. 030137, Final EIS, AFS, ID, North Kennedy-Cottonwood Stewardship Project, Existing Transportation System Modifications and Forest Health Improvements through Vegetation Management both Commercial and Non-Commercial Methods, Boise National Forest, Emmett Ranger District, Gem and Valley Counties, ID, Wait Period Ends: May 05, 2003, Contact: Terry Hardy (208) 373-4235.

EIS No. 030138, Draft EIS, BLM, NM, New Mexico Products Pipeline (NMPP) Project, Build and Operate a Refined Petroleum Products Pipeline System from Odessa, Texas, to Bloomfield, NM, Comment Period Ends: May 19, 2003, Contact: Joseph Jaramillo (505) 761-8779. This document is available on the Internet at: http://www.nm.blm.gov.

EIS No. 030139, Draft EIS, AFS, ID, East Beaver and Miner's Creek Timber Sales and Prescribed Burning Project, Conduct a Timber Sale and Provide Forest Products, Caribou-Targhee National Forest, Clark County, ID, Comment Period Ends: May 19, 2003, Contact: Melissa Jenkin (208) 624-3151.

EIS No. 030140, Final EIS, SFW, NM, Rio Grande Silvery Minnow (Hybognathus amarus) Critical Habitat Designation, Implementation, Bernalillo, Sandoval, Socorro and Valencia Counties, NM, Wait Period Ends: May 5, 2003, Contact: Joy Nicholopoulos (505) 346-2525.

EIS No. 030141, Draft EIS, COE, TX, Gulf Intracoastal Waterway in the Laguna Madre, Maintenance Dredging from the JFK Causeway to the Old Queen Isabella Causeway, Nueces, Kleberg, Kenedy, Willacy and Cameron County, TX , Comment Period Ends: May 19, 2003, Contact: Dr. Terry Roberts (409) 766-3035.

EIS No. 030142, Draft EIS, AFS, CA, Combined Array for Research in Millimeter-wave Astronomy (CARMA) Project, Construction, Reconstruction and Operation 23 Antennas at the Juniper Flat Site, Special-Use-Permit, Inyo Mountain, Inyo National Forest, Inyo County, CA, Comment Period Ends: May 19, 2003, Contact: Colleen (Chaz) O'Brien (760) 873-2490. This document is available on the Internet at: http://www.r5.fs.fed.us/inyo/.

EIS No. 030143, Final EIS, BLM, NM, Farmington Resource Management Plan, Implementation, Managing Public Lands within the Farmington Field Office (FFO) Boundaries and Federal Oil and Gas Resources within the New Mexico Portion of San Juan Basin, San Juan, McKinley, Rio Arriba and Sandoval Counties, NM, Wait Period Ends: May 5, 2003, Contact: James Ramakka (505) 599-6307.

EIS No. 030144, Draft EIS, DOC, ME, VT, CT, NY, DE, NH, MA, RI, NJ, MD, VA, NC, Essential Fish Habitat Components of Amendment 13 to the Northeast Multispecies Fishery Management Plan, To Select the best Method of Minimizing the Impacts of Groundfish Fishing on Essential Fish Habitat, New England Fishery Management Council, ME, VT, CT, NY, DE, NH, MA, RI, NJ, MD, VA and NC, Comment Period Ends: July 2, 2003, Contact: Paul J. Howard (978) 465-0492.

EIS No. 030145, Draft EIS, FRC, LA, Hackberry Liquified Natural Gas (LNG) Terminal and Natural Gas Pipeline Facilities, Construction and Operation, Cameron, Calcasieu, and Beauregard Parishes, La, Comment Period Ends: May 19, 2003, Contact: Carlton Jackson (202) 502-8581.

EIS No. 030146, Final EIS, AFS, UT, WY, Wasatch-Cache National Forest Revised Land and Resource Management Plan, Implementation, several counties, UT and Uinta County, WY, Wait Period Ends: May 5, 2003, Contact: Julie Hubbard (801) 524-3907.

EIS No. 030147, Final EIS, SFW, FL, Proposed Rulemaking for: The Incidental Take of Small Numbers of Florida Manatees (Trichechus manatus latirostris) Resulting from Government Programs Related to Watercraft Access and Watercraft Operation in the State of Florida, FL, Wait Period Ends: May 5, 2003, Contact: Kevin Moody (404) 679-7089.

Dated: April 1, 2003.
Joseph C. Montgomery,
Director, NEPA Compliance Division, Office of Federal Activities.

[FR Doc. 03-8261 Filed 4-3-03; 8:45 am]

BILLING CODE 6560-50-P